DEPARTMENT OF COMMERCE

National Oceanic and Atmospheric Administration

[I.D. 030404D]

Proposed Information Collection; Comment Request; Southeast Region Dealer and Interview Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 14, 2004.

ADDRESSES: Direct all written comments to Diana Hynek, Departmental Paperwork Clearance Officer, Department of Commerce, Room 6625, 14th and Constitution Avenue NW., Washington DC 20230 (or via e-mail at dHynek@doc.gov).

FOR FURTHER INFORMATION CONTACT: Requests for additional information or copies of the information collection instrument(s) and instructions should be directed to John Poffenberger, Southeast Fisheries Science Center, 75 Virginia Beach Drive, Miami, Florida 33149,(phone 305-361-4263) or at john.poffenberger@noaa.gov.

SUPPLEMENTARY INFORMATION:

I. Abstract

Fishery quotas are established for many species in the fishery management plans developed by both the Gulf of Mexico Reef Fish Fishery Management Council or the South Atlantic Fishery Management Council. The Southeast Fisheries Science Center has been delegated the responsibility to monitor these quotas. To do so in a timely manner, seafood dealers that handle these species are required to report the purchases (landings) of these species. The frequency of these reporting requirements varies depending on the magnitude of the quota (i.e., lower quota usually require more frequent reporting) and the intensity of fishing effort. The most common reporting frequency is monthly; however, some fishery quotas, e.g., the mackerel gill net, necessitates weekly or by the trip.

In addition, information collection included in this family of forms includes interview with fishermen to gather information on the fishing effort, location and type of gear used on individual trips. This data collection is conducted for a subsample of the fishing trips and vessel/trips in selected commercial fisheries in the Southeast region. Fishing trips and individuals are selected at random to provide a viable statistical sample. These data are used for scientific analyses that support critical conservation and management decisions made by national and international fishery management organizations.

II. Method of Collection

The Southeast Fisheries Science Center will provide a reporting form to each dealer selected to report the minimum information necessary to monitor the quota(s). The dealer must complete the form by providing the name and permit number of the company and provide the amount purchased (landed) for the designated species. This form must be faxed or sent as an e-mail attachment to the Southeast Fisheries Science Center within 5 business days of the end of each reporting period. For dealers that do not have a rapidfax machine or access to e-mail, pre-addressed, pre-paid envelopes will be provided.

Fishery biologists that are located a strategic fishing ports throughout the Southeast Region (North Carolina through Texas) intercept fishermen as they are unloading their catch and interview them.

III. Data

OMB Number: 0648-0013.

Form Number: None.

Type of Review: Regular submission.

Affected Public: Business and other for-profit organizations (seafood dealers and fishermen).

Estimated Number of Respondents: 5,5000.

Estimated Time Per Response: Fifteen minutes for a dealer report in the golden crab, red snapper, rock shrimp and Puerto Rican prohibited coral dealers; 5 minutes to fax or mail a red snapper dealer report; 5 minutes for a dealer quota monitoring report in the snowy grouper, tilefish, mackerel, and grouper fisheries; 5 minutes for an annual vessel interview; 10 minutes for other interviews; 10 minutes for a dealer and vessel report in the eastern Gulf of Mexico runaround gill mackerel fishery; and 4.5 minutes for a wreckfish dealer report.

Estimated Total Annual Burden Hours: The estimated annual burden hours for the reporting activities in this collection are: shrimp interviews, 914 hours; biological sampling (trip interview program), 483 hours; mackerel dealer reporting for quota monitoring, 78 hours; snowy grouper/tilefish/amberjack dealer reporting 57 hours; red snapper dealer reporting, 71 hours; rock shrimp, golden crab and coral dealer reporting, 15 hours each; and wreckfish dealer reporting, 71 hours. The total annual burden is estimated to be 1,900 hours.

Estimated Total Annual Cost to Public: There are no direct costs to the public (fishermen and seafood dealers) other than the time to respond to the survey. All reports are to be submitted in pre-paid envelopes, via rapidfax or as an attachment to an e:mail.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 3, 2004.
Gwellnar Banks,
Management Analyst, Office of the Chief Information Officer.

[FR Doc. 04-5824 Filed 3-12-04; 8:45 am]

BILLING CODE 3510-22-S